NATIONAL AERONAUTICS AND SPACE ADMINISTRATION

[Notice 01-073]

Government-Owned Inventions, Available for Licensing

AGENCY: National Aeronautics and Space Administration .

ACTION: Notice of availability of inventions for licensing.

SUMMARY: The inventions listed below are assigned to the National Aeronautics and Space Administration, have been filed in the United States Patent and Trademark Office, and are available for licensing.

DATES: June 14, 2001.

FOR FURTHER INFORMATION CONTACT: Diana Cox, Patent Counsel, Goddard Space Flight Center, Mail Code 710.1, Greenbelt, MD 20771; telephone (301) 286-7351, fax (301) 286-9502.

NASA Case No. GSC-14064-1: Universal Fiber Optic Connector Polishing Fixture With Precision Alignment Capability;

NASA Case No. GSC-14207-1: Gear Bearings;

NASA Case No. GSC-14339-1: 3-D Interactive Display.

Dated: June 4, 2001.
Edward A. Frankle,
General Counsel.

[FR Doc. 01-15016 Filed 6-13-01; 8:45 am]

BILLING CODE 7510-01-P